DEPARTMENT OF THE INTERIOR

Fish and Wildlife Service

[FWS-R6-ES-2022-N222; FXES11130600000-223-FF06E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive your written comments by April 11, 2022.

ADDRESSES: Document availability and comment submission: Use one of the following methods to request documents or submit comments. Requests and comments should specify the applicant name(s) and application number(s) (e.g., Smith, PER0123456 or ES056001):

• Email: permitsR6ES@fws.gov.

• U.S. Mail: Chief, Division of Ecological Services, U.S. Fish and Wildlife Service, 134 Union Blvd., Suite 670, Lakewood, CO 80228.

FOR FURTHER INFORMATION CONTACT: Robert Krijgsman, Recovery Permits Coordinator, Ecological Services, 303-236-4347 (phone), or permitsR6ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, and Federal agencies; Tribes; and the public to submit written data, views, or arguments with respect to these applications. The comments and recommendations that will be most useful and likely to influence agency decisions are those supported by quantitative information or studies.

Application No. | Applicant | Species | Location | Take activity | Permit action
ES049623 | Department of Army, Fort Riley DPW—Environmental Division, Conservation Branch, Fort Riley, KS | • Topeka shiner (Notropis topeka) | KS | • Capture, electrofish, handle, and release | Renew.
ES047250 | Montana Department of Fish, Wildlife, and Parks, Helena, MT | • Black-footed ferret (Mustela nigripes) | MT | • Capture, handle, release, track reintroduced individuals, anesthetize, vaccinate, mark, and collect tissue samples | Renew.
ES056003 | Detroit Zoological Society, Royal Oak, MI | • Wyoming Toad (Bufo hemiophrys baxteri) | WY, MI | • Capture, handle, mark, release, propagate in captivity, transport, display for educational purposes, provide general husbandry, and research | Renew and Amend.
ES66511C | Milu Velardi, Santa Fe, NM | • New Mexico meadow jumping mouse (Zapus hudsonius luteus) | AZ, CO, NM | • Capture, handle, and release | Renew and Amend.
PER0034947 | Jesse Boulerice, Clancy, Montana | • Black-footed ferret (Mustela nigripes) | AZ, CO, MT, SD, TX, WY | • Capture, handle, collect biological samples, anesthetize, mark, and release | New.
ES047290 | Colorado Parks and Wildlife, Alamosa, Colorado | • Bonytail (Gila elegans) • Colorado pikeminnow (=squawfish) (Ptychocheilus lucius) • Razorback sucker (Xyrauchen texanus) | CO, NM, UT, WY, CA, AZ, CA | • Capture, handle, propagate and rear in captivity, provide general husbandry, transport, tag, collect biological samples, display for educational purposes, and release | Renew.
ES06556C | Bowen Collins & Associates, Draper, Utah | • Southwestern willow flycatcher (Empidonax traillii extimus) | UT | • Play taped vocalizations | Renew.
ES27486B | Wetland Dynamics, LLC., Monte Vista, Colorado | • Southwestern willow flycatcher (Empidonax traillii extimus) | CO | • Play taped vocalizations | Renew.
PER0033598 | Aimee Way, Durango, Colorado | • Southwestern willow flycatcher (Empidonax traillii extimus) | CO, UT, AZ, NM | • Play taped vocalizations | New.

Public Availability of Comments

Written comments we receive become part of the administrative record. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Stephen Small,
Assistant Regional Director, U.S. Fish and Wildlife Service.

[FR Doc. 2022-05226 Filed 3-10-22; 8:45 am]

BILLING CODE 4333-15-P